DEPARTMENT OF THE INTERIOR

Bureau of Land Management

[NV-056-7122-EU-F152; N-79099]

Notice of Realty Action: Non-Competitive Sale in the Las Vegas Valley, NV

AGENCY: Bureau of Land Management, Interior.

ACTION: Notice of realty action.

SUMMARY: The Bureau of Land Management (BLM) proposes to sell a 1.25 acre parcel of public land in the southwest portion of the Las Vegas Valley, Nevada, to the owner of lands adjoining the parcel. The adjoining private land owner has requested that the parcel be sold to him by non-competitive (direct) sale at not less than the appraised market value of the land.

DATES: On or before July 14, 2006, interested parties may submit comments concerning the proposed sale to the BLM Field Manager, Las Vegas Field Office, at the address stated below.

ADDRESSES: Las Vegas Field Office, Bureau of Land Management, 4701 N. Torrey Pines Drive, Las Vegas, NV 89130

FOR FURTHER INFORMATION CONTACT: Shawna Woods, Realty Specialist at (702) 515-5099.

SUPPLEMENTARY INFORMATION: Pursuant to the request of Mr. Scott Schroeder, the BLM proposes to sell the parcel of public land located in the southwest portion of the Las Vegas Metropolitan Area and further described below. The subject parcel contains 1.25 acres in the form of an isolated parcel resulting from the recent reduction in the width of the Blue Diamond Highway right-of-way. The highway right-of-way for Blue Diamond Highway was granted in 1960. The grant included the subject lands. In 1992, the Nevada Department of Transportation relinquished a portion of the right-of-way width (100 feet on both sides) for the highway. This action reduced the highway frontage to Mr. Schroeder's property and left a small parcel of public land between the highway and Mr. Schroeder's private land. Mr. Schroeder has requested the direct sale of the piece between his property and the highway in order to regain highway access. The majority of the 1.25 acre parcel is encumbered by several rights-of-way making the net usable area 0.1156 acre. The subject parcel, consisting of approximately 1.25 acres of land, would be sold at not less than the fair market value of $54,500 as determined by a BLM, reviewed and approved appraisal. The following described land in Clark County, Nevada, has been examined and found suitable for direct sale pursuant to section 203 of the Federal Land Policy and Management Act of 1976 ((FLPMA) P.L. 94-579, as amended , 43 U.S.C. 1713) and the Southern Nevada Public Land Management Act (SNPLMA, P.L. 105-263) and 43 CFR 2711.3-3.

Mount Diablo Meridian, Nevada

T. 22 S., R 60 E.,

Section 19, SW¼NE¼NE¼SE¼NW¼.

The area described contains 1.25 acres in Clark County.

This proposed action is in conformance with the Las Vegas Resource Management Plan, approved on October 5, 1998. The plan has been reviewed and it is determined the proposed action conforms with land use plan decision LD-1 established in accordance with section 202 of FLPMA, as amended (43 U.S.C. 1713).

A direct sale to Mr. Scott Schroeder is being proposed, and is considered appropriate. 43 CFR 2711.3-3(a) states that “Direct sales (without competition) may be utilized, when in the opinion of the authorized officer, a competitive sale is not appropriate and the public interest would be best served by a direct sale. Examples include but are not limited to: * * * (4) The adjoining ownership pattern and access indicate a direct sale is appropriate”. The land is not required for any Federal purpose. The sale will be made subject to the applicable provisions of FLPMA and the regulations of the Secretary of the Interior.

The minerals of no known value will be conveyed with this parcel. Acceptance of the offer to purchase will constitute an application for conveyance of these mineral interests. In conjunction with the final payment, the applicant will be required to pay a $50.00 non-refundable filing fee for processing the conveyance of the mineral interests of no known value which will be sold simultaneously with the surface interest.

When patented, title to the land will continue to be subject to the following:

1. A reservation of a right-of-way thereon for ditches or canals constructed by the authority of the United States, Act of August 30, 1890 (26 Stat. 391, 43 U.S.C. 945);

2. A reservation to the United States of oil and gas and salable minerals together with the right to prospect for, mine and remove such deposits from the same under applicable law and such regulations as the Secretary of the Interior may prescribe;

3. Valid existing rights of record, including, but not limited to those documented on the BLM public land records at the time of sale;

4. Rights for a railroad granted to Los Angeles and Salt Lake Railroad Company, its successors and assigns, by BLM right-of-way No.CC-014956, pursuant to the Act of February 15, 1901 (031 Stat 790; 43 U.S.C. 959);

5. Rights for an aerial telephone line granted to Central Telephone, its successors and assigns, by BLM right-of-way No.N-03983, pursuant to the Act of February 15, 1901 (031 Stat 790; 43 U.S.C. 959);

6. Rights for an overhead distribution powerline and substation granted to Nevada Power, its successors and assigns, by BLM right-of-way No. N-58888, pursuant to section 501 of FLPMA (43 U.S.C. 1761).

7. Rights for a temporary use area granted to Nevada Power with an expiration date of February 27, 2007, its successors and assigns, by BLM right-of-way No. N-58888-02, pursuant to section 501 of FLPMA (43 U.S.C. 1761).

8. Rights for a natural gas pipeline granted to the Southwest Gas Corporation, its successors and assigns, by BLM right-of-way No. N-60107, pursuant to the Act of February 25, 1920 (41 Stat. 437; 30 U.S.C. 185 Sec.28).

9. Rights for a highway granted to Nevada Department of Transportation, its successors and assigns, by BLM right-of-way No. Nev-012728, pursuant to the Act of August 27, 1958 (072 Stat. 892; 23 U.S.C. 107(D)).

The patentee, by accepting a patent, covenants and agrees to indemnify, defend, and hold the United States harmless from any costs, damages, claims, causes of action, penalties, fines, liabilities, and judgments of any kind or nature arising from the past, present, and future acts or omissions of the patentees or their employees, agents, contractors, or lessees, or any third-party, arising out of or in connection with the patentees' use, occupancy, or operations on the patented real property. This indemnification and hold harmless agreement includes, but is not limited to, acts and omissions of the patentees and their employees, agents, contractors, or lessees, or any third party, arising out of or in connection with the use and/or occupancy of the patented real property which has already resulted or does hereafter result in: (1) Violations of Federal, State, and local laws and regulations that are now or may in the future become, applicable to the real property; (2) Judgments, claims, or demands of any kind assessed against the United States; (3) Costs, expenses, or damages of any kind incurred by the United States; (4) Releases or threatened releases of solid or hazardous waste(s) and/or hazardous substances(s), as defined by Federal or State environmental laws, off, on, into or under land, property and other interests of the United States; (5) Activities by which solids or hazardous substances or wastes, as defined by Federal and State environmental laws are generated, released, stored, used or otherwise disposed of on the patented real property, and any cleanup response, remedial action or other actions related in any manner to said solid or hazardous substances or wastes; or (6) Natural resource damages as defined by Federal and State law. This covenant shall be construed as running with the above described parcel of land patented or otherwise conveyed by the United States, and may be enforced by the United States in a court of competent jurisdiction.

No warranty of any kind, express or implied is given or will be given by the United States as to the title, physical condition or potential uses of the land proposed for sale. However, to the extent required by law, such land is subject to the requirements of section 120(h) of the Comprehensive Environmental Response Compensation and Liability Act (CERCLA), as amended (42 U.S. C. 9620(h)).

Publication of this notice in the Federal Register temporarily segregates the above described land from appropriation under the public land laws, including the mining laws. The segregative effect of this notice will terminate upon issuance of a patent or upon expiration of 270 days from the date of publication in the Federal Register, whichever occurs first (43 CFR 2711.1-2(d). The above described land was previously segregated from mineral entry under BLM case file number N-66364, with record notation as of October 19, 1998. This previous segregation will terminate upon publication of this notice in the Federal Register.

Detailed information concerning the proposed sale, including an environmental assessment and the approved appraisal report is available for review at the BLM Las Vegas Field Office at the address above. The Field Manager, BLM, Las Vegas Field Office, will review the comments of all interested parties concerning the sale. To be considered, comments must be received at the BLM Las Vegas Field Office on or before the date stated above in this notice for that purpose. Comments received during this process, including respondent's name, address, and other contact information, will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization. Any adverse comments will be reviewed by the BLM, Nevada State Director.

In the absence of any adverse comments, the decision will become effective on July 31, 2006. The lands will not be offered for sale until after the decision becomes effective.

Authority: 43 CFR 2711.1-2(a).

Dated: April 20, 2006.
Sharon DiPinto,
Assistant Field Manager, Division of Lands, Las Vegas, Nevada.

[FR Doc. E6-8257 Filed 5-26-06; 8:45 am]

BILLING CODE 4310-HC-P